DEPARTMENT OF HEALTH AND HUMAN SERVICES

Centers for Disease Control and Prevention

Notice of Meeting

Disease, Disability, and Injury Prevention and Control Special Emphasis Panel (SEP): Evaluation of Offering and Documenting Influenza Vaccination for Nursing Home Residents, Funding Opportunity Announcement (FOA) IP10-001; Development, Implementation, and Evaluation of a Multi-Component Intervention to Vaccinate Adolescents at Risk for Vaccine-Preventable Diseases, FOA IP10-002; Evaluation and Impact of a State Law Requiring Mandatory Influenza Vaccination of Hospital Employees, FOA IP10-003; and Improving the Translation of the Evidence-Based Recommendation of Client Reminder/Recall for Childhood Immunization, FOA IP10-004, initial review.

In accordance with Section 10(a)(2) of the Federal Advisory Committee Act (Pub. L. 92-463), the Centers for Disease Control and Prevention (CDC), announces the aforementioned meeting:

Time and Date: 8 a.m.-5 p.m., June 7, 2010 (Closed).

Place: Sheraton Gateway Hotel Atlanta Airport, 1900 Sullivan Road, Atlanta, Georgia 30337, Telephone: (770) 979-1100.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of applications received in response to “Evaluation of Offering and Documenting Influenza Vaccination for Nursing Home Residents, FOA IP10-001; Development, Implementation, and Evaluation of a Multi-Component Intervention to Vaccinate Adolescents at Risk for Vaccine-Preventable Diseases, FOA IP10-002; Evaluation and Impact of a State Law Requiring Mandatory Influenza Vaccination of Hospital Employees, FOA IP10-003; and Improving the Translation of the Evidence-Based Recommendation of Client Reminder/Recall for Childhood Immunization, FOA IP10-004”.

For More Information Contact: Gregory Anderson, M.S., M.P.H., Scientific Review Officer, CDC, 1600 Clifton Road, NE., Mailstop E60, Atlanta, Georgia 30333, Telephone: (404) 498-2293.

The Director, Management Analysis and Services Office, has been delegated the authority to sign Federal Register notices pertaining to announcements of meetings and other committee management activities, for both CDC and the Agency for Toxic Substances and Disease Registry.

Dated: May 11, 2010.
Elaine L. Baker,
Director, Management Analysis and Services Office, Centers for Disease Control and Prevention.

[FR Doc. 2010-11886 Filed 5-17-10; 8:45 am]

BILLING CODE 4163-18-P